DEPARTMENT OF COMMERCE

International Trade Administration

[A-583-603]

Top-of-the-Stove Stainless Steel Cooking Ware from Taiwan; Revocation of the Antidumping Duty Order

AGENCY: Import Administration, International Trade Administration, Department of Commerce.

SUMMARY: Pursuant to section 751(c) of the Tariff Act of 1930, as amended (the Act), the International Trade Commission (ITC) determined that revocation of the antidumping duty order on top-of-the-stove stainless steel cooking ware (cooking ware) from Taiwan would not be likely to lead to continuation or recurrence of material injury to an industry in the United States within a reasonably foreseeable time. See Investigations Nos. 731-TA-298 and 299 (Second Review); Investigations Nos. 701-TA-267 and 268 and 731-TA-304 and 305 (Second Review); Porcelain-on-Steel Cooking Ware From China and Taiwan; Top-of-the-Stove Stainless Steel Cooking Ware From Korea and Taiwan, 70 FR 67740 (November 8, 2005) (ITC Determination). Therefore, pursuant to section 751(d)(2) of the Act and 19 CFR 351.222(i)(1)(iii), the Department of Commerce (the Department) is revoking the antidumping duty order on cooking ware from Taiwan. Pursuant to section 751(c)(6)(A)(iv) of the Act and 19 CFR 351.222(i)(2)(i), the effective date of revocation of the antidumping duty order is April 18, 2005, the fifth anniversary of the date of publication in the Federal Register of the determination to continue the order.

EFFECTIVE DATE: November 17, 2005.

FOR FURTHER INFORMATION Zev Primor, AD/CVD Operations, Office IV, Import Administration, International Trade Administration, U.S. Department of Commerce, 14th Street & Constitution Avenue, NW, Washington, DC 20230; telephone: (202) 482-4114.

SUPPLEMENTARY INFORMATION:

Background

On March 1, 2005, the Department and the ITC initiated sunset reviews of the antidumping duty order on cooking ware from Taiwan pursuant to section 751(c) of the Act. See Initiation of Five-year (“Sunset”) Reviews, 70 FR 9919 (March 1, 2005). As a result of its review, the Department found that revocation of the antidumping duty order would likely lead to continuation or recurrence of dumping, and notified the ITC of the magnitude of the margins likely to prevail were the order revoked. See Top-of-the-Stove Stainless Steel Cooking Ware from the Republic of Korea and Taiwan; Final Results of the Expedited Sunset Reviews of the Antidumping Duty Orders, 70 FR 56443 (September 27, 2005).

On October 27, 2005, the ITC determined, pursuant to section 751(c) of the Act, that revocation of the antidumping duty order on cooking ware from Taiwan would not likely lead to continuation or recurrence of material injury to an industry in the United States within a reasonably foreseeable time. See USITC Publication 3808 (October 2005) and ITC Determination.

Scope of the Order

The merchandise subject to this antidumping duty order is cooking ware from Taiwan. The subject merchandise is all non-electric cooking ware of stainless steel which may have one or more layers of aluminum, copper or carbon steel for more even heat distribution. The subject merchandise includes skillets, frying pans, omelette pans, saucepans, double boilers, stock pots, dutch ovens, casseroles, steamers, and other stainless steel vessels, all for cooking on stove top burners, except tea kettles and fish poachers. Excluded from the scope of the orders are stainless steel oven ware and stainless steel kitchen ware. The subject merchandise is currently classifiable under Harmonized Tariff Schedule of the United States (HTSUS) item numbers 7323.93.00 and 9604.00.00. The HTSUS item numbers are provided for convenience and Customs purposes only. The written description remains dispositive.

Determination

As a result of the determination by the ITC that revocation of the antidumping duty order would not be likely to lead to continuation or recurrence of material injury to an industry in the United States, the Department, pursuant to section 751(d)(2) of the Act, is revoking the antidumping duty order on cooking ware from Taiwan. Pursuant to section 751(c)(6)(A)(iv) of the Act and 19 CFR 351.222(i)(2)(i), revocation is effective April 18, 2005, the fifth anniversary of the date of the determination to continue the order. The Department will instruct United States Customs and Border Protection (CBP) to discontinue the suspension of liquidation and collection of cash deposits on entries of the subject merchandise entered, or withdrawn from warehouse, for consumption on or after April 18, 2005. The Department will instruct CBP to continue to suspend liquidation of entries of the subject merchandise entered or withdrawn from warehouse, for consumption prior to April 18, 2005, and will complete any pending administrative reviews of this order and will conduct administrative reviews of these entries in response to appropriately filed requests for review.

The Department's and ITC's five-year (sunset) reviews and notices are in accordance with sections 751(c) of the Act and published pursuant to section 777(i)(1) of the Act.

Dated: November 9, 2005.
Stephen J. Claeys,
Acting Assistant Secretary for Import Administration.

[FR Doc. E5-6371 Filed 11-16-05; 8:45 am]

BILLING CODE 3510-DS-S